DEPARTMENT OF ENERGY

Federal Energy Regulatory Commission

Combined Notice of Filings

Take notice that the Commission has received the following Natural Gas Pipeline Rate and Refund Report filings:

Filings Instituting Proceedings

Docket Number: PR19-30-000.

Applicants: Columbia Gas of Ohio, Inc.

Description: Tariff filing per 284.123(b),(e)/: COH Rates effective 1-31-2019.

Filed Date: 1/30/19.

Accession Number: 201901305064.

Comments/Protests Due: 5 p.m. ET 2/20/19.

Docket Number: PR19-32-000.

Applicants: Southern California Gas Company.

Description: Tariff filing per 284.123(b),(e)+(g): Offshore Delivery Service Rate Revision—January 2019 to be effective 1/1/2019.

Filed Date: 1/30/19.

Accession Number: 201901305218.

Comments Due: 5 p.m. ET 2/20/19.

284.123(g) Protests Due: 5 p.m. ET 4/1/19.

Docket Number: PR19-33-000.

Applicants: NorthWestern Corporation.

Description: Tariff filing per 284.123(b),(e)/: Revised Rate Schedules for Transportation and Storage (Tax Tracker and TCJA) to be effective 1/1/2019.

Filed Date: 1/31/19.

Accession Number: 201901315196.

Comments/Protests Due: 5 p.m. ET 2/21/19.

Docket Numbers: RP19-608-000.

Applicants: Kinder Morgan Illinois Pipeline LLC.

Description: Penalty Revenue Crediting Report of Kinder Morgan Illinois Pipeline LLC.

Filed Date: 1/30/19.

Accession Number: 20190130-5229.

Comments Due: 5 p.m. ET 2/11/19.

Docket Numbers: RP19-609-000.

Applicants: Kinder Morgan Louisiana Pipeline LLC.

Description: Penalty Revenue Crediting Report of Kinder Morgan Louisiana Pipeline LLC.

Filed Date: 1/30/19.

Accession Number: 20190130-5230.

Comments Due: 5 p.m. ET 2/11/19.

Docket Numbers: RP19-427-001.

Applicants: Honeoye Storage Corporation.

Description: Compliance filing 20190131 157 Tariff In Compliance with Order Approving Settlement to be effective 1/1/2019.

Filed Date: 1/31/19.

Accession Number: 20190131-5285.

Comments Due: 5 p.m. ET 2/12/19.

Docket Numbers: RP19-610-000.

Applicants: Gulf South Pipeline Company, LP.

Description: § 4(d) Rate Filing: Superseding Non-conforming Agmts Filing—Coastal Bend to be effective 2/1/2019.

Filed Date: 1/31/19.

Accession Number: 20190131-5037.

Comments Due: 5 p.m. ET 2/12/19.

Docket Numbers: RP19-611-000.

Applicants: Rover Pipeline LLC.

Description: § 4(d) Rate Filing: Summary of Negotiated Rate Capacity Release Agreements on 1-31-19 to be effective 2/1/2019.

Filed Date: 1/31/19.

Accession Number: 20190131-5040.

Comments Due: 5 p.m. ET 2/12/19.

Docket Numbers: RP19-612-000.

Applicants: Millennium Pipeline Company, LLC.

Description: § 4(d) Rate Filing: Negotiated & Non-Conforming Svc Agmts—ESU to be effective 3/18/2019.

Filed Date: 1/31/19.

Accession Number: 20190131-5041.

Comments Due: 5 p.m. ET 2/12/19.

Docket Numbers: RP19-613-000.

Applicants: Transcontinental Gas Pipe Line Company, LLC.

Description: § 4(d) Rate Filing: Negotiated Rates—Cherokee AGL—Replacement Shippers—Feb 2019 to be effective 2/1/2019.

Filed Date: 1/31/19.

Accession Number: 20190131-5079.

Comments Due: 5 p.m. ET 2/12/19.

Docket Numbers: RP19-614-000.

Applicants: MarkWest Pioneer, L.L.C.

Description: § 4(d) Rate Filing: Conforming and Nonconforming Negotiated Rate Service Agreements to be effective 2/1/2019.

Filed Date: 1/31/19.

Accession Number: 20190131-5082.

Comments Due: 5 p.m. ET 2/12/19.

Docket Numbers: RP19-615-000.

Applicants: El Paso Natural Gas Company, L.L.C.

Description: § 4(d) Rate Filing: Negotiated Rate Agreement Update (Conoco Feb 19) to be effective 2/1/2019.

Filed Date: 1/31/19.

Accession Number: 20190131-5083.

Comments Due: 5 p.m. ET 2/12/19.

Docket Numbers: RP19-616-000.

Applicants: MarkWest Pioneer, L.L.C.

Description: § 4(d) Rate Filing: Tariff Revisions Applicable to Rate Schedule FT-2 to be effective 3/1/2019.

Filed Date: 1/31/19.

Accession Number: 20190131-5084.

Comments Due: 5 p.m. ET 2/12/19.

Docket Numbers: RP19-617-000.

Applicants: Gulf South Pipeline Company, LP.

Description: § 4(d) Rate Filing: Cap Rel Neg Rate Agmts (Coastal Bend Agmt releases eff 2-1-2019) to be effective 2/1/2019.

Filed Date: 1/31/19.

Accession Number: 20190131-5085.

Comments Due: 5 p.m. ET 2/12/19.

Docket Numbers: RP19-618-000.

Applicants: Gulf South Pipeline Company, LP.

Description: § 4(d) Rate Filing: Cap Rel Neg Rate Agmts (Atlanta Gas 8438 to various shippers eff 2-1-2019) to be effective 2/1/2019.

Filed Date: 1/31/19.

Accession Number: 20190131-5086.

Comments Due: 5 p.m. ET 2/12/19.

Docket Numbers: RP19-619-000.

Applicants: Gulf South Pipeline Company, LP.

Description: § 4(d) Rate Filing: Cap Rel Neg Rate Agmt (Petrohawk 41455 to BP 50582) to be effective 2/1/2019.

Filed Date: 1/31/19.

Accession Number: 20190131-5088.

Comments Due: 5 p.m. ET 2/12/19.

Docket Numbers: RP19-620-000.

Applicants: Texas Gas Transmission, LLC.

Description: § 4(d) Rate Filing: Cap Rel Neg Rate Agmts (Gulfport 34939, 35446 to Eco-Energy 37770, 37771) to be effective 2/1/2019.

Filed Date: 1/31/19.

Accession Number: 20190131-5089.

Comments Due: 5 p.m. ET 2/12/19.

Docket Numbers: RP19-621-000.

Applicants: Northern Natural Gas Company.

Description: § 4(d) Rate Filing: 20190131 Negotiated Rate to be effective 2/1/2019.

Filed Date: 1/31/19.

Accession Number: 20190131-5094.

Comments Due: 5 p.m. ET 2/12/19.

Docket Numbers: RP19-622-000.

Applicants: Northern Natural Gas Company.

Description: § 4(d) Rate Filing: 20190131 Remove Gulf Coast to be effective 3/2/2019.

Filed Date: 1/31/19.

Accession Number: 20190131-5095.

Comments Due: 5 p.m. ET 2/12/19.

Docket Numbers: RP19-623-000.

Applicants: Algonquin Gas Transmission, LLC.

Description: § 4(d) Rate Filing: Negotiated Rates for releases to UGI contracts eff 2-1-19 to be effective2/1/2019.

Filed Date: 1/31/19.

Accession Number: 20190131-5128.

Comments Due: 5 p.m. ET 2/12/19.

Docket Numbers: RP19-624-000.

Applicants: Alliance Pipeline L.P.

Description: § 4(d) Rate Filing: Contract Adjustments for 2-1-2019 to be effective 2/1/2019.

Filed Date: 1/31/19.

Accession Number: 20190131-5144.

Comments Due: 5 p.m. ET 2/12/19.

Docket Numbers: RP19-625-000.

Applicants: Texas Eastern Transmission, LP.

Description: § 4(d) Rate Filing: Negotiated Rates—Chevron 911109 releases eff 2-1-19 to be effective2/1/2019.

Filed Date: 1/31/19.

Accession Number: 20190131-5187.

Comments Due: 5 p.m. ET 2/12/19.

Docket Numbers: RP19-626-000.

Applicants: NEXUS Gas Transmission, LLC.

Description: § 4(d) Rate Filing: Negotiated Rate—Columbia to Alpha Gas 960135 to be effective 2/1/2019.

Filed Date: 1/31/19.

Accession Number: 20190131-5191.

Comments Due: 5 p.m. ET 2/12/19.

Docket Numbers: RP19-627-000.

Applicants: Great Lakes Gas Transmission Limited Partnership.

Description: Compliance filing Semi-Annual Transporter's Use Report to be effective N/A.

Filed Date: 1/31/19.

Accession Number: 20190131-5194.

Comments Due: 5 p.m. ET 2/12/19.

Docket Numbers: RP19-628-000.

Applicants: Rockies Express Pipeline LLC.

Description: § 4(d) Rate Filing: Neg Rate 2019-01-31 E2W (7) to be effective 2/1/2019.

Filed Date: 1/31/19.

Accession Number: 20190131-5228.

Comments Due: 5 p.m. ET 2/12/19.

Docket Numbers: RP19-629-000.

Applicants: Enable Gas Transmission, LLC.

Description: § 4(d) Rate Filing: Negotiated Rate Filing—February 2019—Newfield 1011022 to be effective 2/1/2019.

Filed Date: 2/1/19.

Accession Number: 20190201-5002.

Comments Due: 5 p.m. ET 2/13/19.

Docket Numbers: RP19-630-000.

Applicants: Equitrans, L.P.

Description: § 4(d) Rate Filing: Negotiated Capacity Release Agreements—2/1/2019 to be effective2/1/2019.

Filed Date: 2/1/19.

Accession Number: 20190201-5007.

Comments Due: 5 p.m. ET 2/13/19.

Docket Numbers: RP19-631-000.

Applicants: Gulf South Pipeline Company, LP.

Description: § 4(d) Rate Filing: Amendment to Neg Rate Agmt and Cap Rel Neg Rate Agmt (Aethon37657 to Scona50621) to be effective 2/1/2019.

Filed Date: 2/1/19.

Accession Number: 20190201-5027.

Comments Due: 5 p.m. ET 2/13/19.

Docket Numbers: RP19-632-000.

Applicants: Midwestern Gas Transmission Company.

Description: § 4(d) Rate Filing: Negotiated Rate PAL Agreement—Exelon & Duke Energy Indiana to be effective 1/31/2019.

Filed Date: 2/1/19.

Accession Number: 20190201-5070.

Comments Due: 5 p.m. ET 2/13/19.

Docket Numbers: RP19-633-000.

Applicants: Cheniere Corpus Christi Pipeline, LP.

Description: § 4(d) Rate Filing: Electric Power Costs to be effective3/1/2019.

Filed Date: 2/1/19.

Accession Number: 20190201-5072.

Comments Due: 5 p.m. ET 2/13/19.

Docket Numbers: RP19-634-000.

Applicants: Northern Natural Gas Company.

Description: § 4(d) Rate Filing: 20190201 Annual PRA to be effective4/1/2019.

Filed Date: 2/1/19.

Accession Number: 20190201-5095.

Comments Due: 5 p.m. ET 2/13/19.

Docket Numbers: RP19-635-000.

Applicants: Cheniere Corpus Christi Pipeline, LP.

Description: § 4(d) Rate Filing: 311(a)(1) Transportation to be effective 3/1/2019.

Filed Date: 2/1/19.

Accession Number: 20190201-5207.

Comments Due: 5 p.m. ET 2/13/19.

Docket Numbers: RP19-636-000.

Applicants: Black Marlin Pipeline Company.

Description: Petition for Waiver from Implementing NAESB version 3.1 standards of Black Marlin Pipeline Company.

Filed Date: 2/1/19.

Accession Number: 20190201-5225.

Comments Due: 5 p.m. ET 2/13/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 4, 2019.
Kimberly D. Bose,
Secretary.

[FR Doc. 2019-02003 Filed 2-11-19; 8:45 am]

BILLING CODE 6717-01-P